DEPARTMENT OF TRANSPORTATION

National Highway Traffic Safety Administration

49 CFR Part 571

[Docket No. NHTSA-2010-0032]

RIN 2127-AK82

Federal Motor Vehicle Safety Standards; Side Impact Protection

AGENCY: National Highway Traffic Safety Administration (NHTSA), Department of Transportation.

ACTION: Final rule; correcting amendments.

SUMMARY: On August 24, 2011 we published a final rule responding to a petition for reconsideration of a final rule on the Federal motor vehicle safety standard for side impact protection. In today's document, we correct a minor error in that rule. The agency is also correcting several typographical errors in the standard.

DATES: This rule is effective November 28, 2012.

FOR FURTHER INFORMATION CONTACT: For non-legal issues, you may call Louis N. Molino, NHTSA Office of Crashworthiness Standards, telephone 202-366-1740. For legal issues, you may call Deirdre Fujita, NHTSA Office of Chief Counsel, telephone 202-366-2992. You may send mail to these officials at the National Highway Traffic Safety Administration, 1200 New Jersey Avenue SE., West Building, Washington, DC 20590.

SUPPLEMENTARY INFORMATION: This document makes two corrections to Federal Motor Vehicle Safety Standard (FMVSS) No. 214, “Side impact protection,” 49 CFR 571.214.

On September 11, 2007, NHTSA published a final rule adopting a pole test into FMVSS No. 214. Later, NHTSA published responses to petitions for reconsideration of parts of that rule, including a final rule published August 24, 2011 (76 FR 52880).¹ The August 24, 2011, document had a minor error, which we are correcting today. We are also making corrections to typographical errors in FMVSS No. 214 which occurred previously in the FMVSS No. 214 rulemaking.

¹ See also 73 FR 32473 (June 9, 2008), and 75 FR 12123 (March 15, 2010).

Correcting Amendments

This notice makes minor corrections to FMVSS No. 214 in two areas. First, it removes S12.3.4(i) from the regulatory text of FMVSS No. 214. S12.3.4(i) contains obsolete instructions for leveling the head of a test dummy. In the preamble of the August 2011 final rule, NHTSA explained that it was moving head-leveling instructions contained in S12.3.4(i) to paragraph (h).² As a result of that move, S12.3.4(i) was no longer needed, but NHTSA inadvertently did not remove S12.3.4(i) from the regulatory text. To correct that error, we are removing and reserving S12.3.4(i), and making a conforming change to S12.3.4(j).

² Note that a sentence in the preamble of the August 2011 final rule (76 FR at 52882, col. 2) stated: “Yet, as noted above for S12.3.2(a)(10), the instruction that was in S12.3.3(a)(9) and S12.3.4(h) (to `minimize the angle') [emphasis added] has not been deleted but is now integrated into the procedures of S12.3.3(a)(9) and S12.3.4(h).” This sentence referred to incorrect section numbers and should have stated “Yet, as noted above for S12.3.2(a)(10), the instruction that was in S12.3.3(a)(10) and S12.3.4(i) [emphasis added] (to `minimize the angle') has not been deleted but is now integrated * * *.”

Second, the agency has identified minor typographical errors in several sections of FMVSS No. 214 that occurred in the past. These errors are related to the positioning of the 5th percentile adult female dummy. In three of the five sections, S12.3.2(c), S12.3.3(c) and S12.3.4(l), the “±” symbols for the discrete arm position settings were not set forth correctly, and in some instances extraneous text was inadvertently added when the amendments were printed in the Code of Federal Regulations. In S12.3.3(a)(4), the ± symbol was incorrectly represented by just a plus sign for the longitudinal centerline tolerance, and in S12.3.4(c), the metric unit of millimeters (mm) was used in both the metric tolerance of the seating reference point (SgRP) and its English conversion. This document corrects these errors.

This document also amends the authority citation for 49 CFR Part 571, by changing the citation to the DOT regulation setting forth delegations made by the Secretary to Departmental officials.³

³ See 77 FR 49964, August 17, 2012. Final rule updating Office of the Secretary of Transportation regulations delegating authority from the Secretary to Departmental officers.

List of Subjects in 49 CFR Part 571

Imports, Motor vehicle safety, Motor vehicles, Rubber and rubber products, and Tires.

Accordingly, 49 CFR part 571 is corrected by making the following correcting amendments:

PART 571—FEDERAL MOTOR VEHICLE SAFETY STANDARDS

1. The authority citation for part 571 of title 49 is revised to read as follows:

Authority: 49 U.S.C. 322, 30111, 30115, 30117, and 30166; delegation of authority at 49 CFR 1.95.

2. Section 571.214 is amended by:

a. Revising S12.3.2(c), S12.3.3(a)(4), S12.3.3(c), S12.3.4(c);

b. Removing and reserving S12.3.4(i) and

c. Revising S12.3.4(j) and S12.3.4(l).

The revisions read as follows:

§ 571.214 Standard No. 214; Side impact protection.

* * * * *

S12.3.2 * * *

(c) Driver arm/hand positioning. Place the dummy's upper arm such that the angle between the projection of the arm centerline on the midsagittal plane of the dummy and the torso reference line is 45° ± 5°. The torso reference line is defined as the thoracic spine centerline. The shoulder-arm joint allows for discrete arm positions at 0, ± 45, ± 90, ± 135, and 180 degree settings where positive is forward of the spine.

* * * * *

S12.3.3 * * *

(a) * * *

(4) Bench seats. Position the midsagittal plane of the dummy vertical and parallel to the vehicle's longitudinal centerline and the same distance from the vehicle's longitudinal centerline, within ± 10 mm (± 0.4 in), as the midsagittal plane of the driver dummy.

* * * * *

(c) Passenger arm/hand positioning. Place the dummy's upper arm such that the angle between the projection of the arm centerline on the midsagittal plane of the dummy and the torso reference line is 45° ± 5°. The torso reference line is defined as the thoracic spine centerline. The shoulder-arm joint allows for discrete arm positions at 0, ± 45, ± 90, ± 135, and 180 degree settings where positive is forward of the spine.

* * * * *

S12.3.4 * * *

(c) Place the dummy on the seat cushion so that its midsagittal plane is vertical and coincides with the vertical longitudinal plane through the center of the seating position SgRP within ±10 mm (±0.4 in).

* * * * *

(j) Measure and set the dummy's pelvic angle using the pelvic angle gauge. The angle is set to 20.0 degrees ± 2.5 degrees. If this is not possible, adjust the pelvic angle as close to 20.0 degrees as possible while keeping the transverse instrumentation platform of the head as level as possible, as specified in S12.3.4(h).

* * * * *

(l) Passenger arm/hand positioning. Place the rear dummy's upper arm such that the angle between the projection of the arm centerline on the midsagittal plane of the dummy and the torso reference line is 45° ± 5°. The torso reference line is defined as the thoracic spine centerline. The shoulder-arm joint allows for discrete arm positions at 0, ± 45, ± 90, ± 135, and 180 degree settings where positive is forward of the spine.

* * * * *

Issued on: November 20, 2012.
Christopher J. Bonanti,
Associate Administrator for Rulemaking.

[FR Doc. 2012-28810 Filed 11-27-12; 8:45 am]

BILLING CODE 4910-59-P